OFFICE OF THE UNITED STATES TRADE REPRESENTATIVE

Technical Corrections to the Harmonized Tariff Schedule of the United States

AGENCY: Office of the United States Trade Representative.

ACTION: Technical corrections to the Harmonized Tariff Schedule of the United States.

SUMMARY: The United States Trade Representative (“the USTR”) is modifying the Harmonized Tariff Schedule of the United States (HTS) as set forth in the Annex to this notice, pursuant to authority granted to the President in section 604 of the Trade Act of 1974 (“Trade Act”) and delegated to the USTR in Presidential Proclamation No. 6969 of January 27, 1997 (62 FR 4415). These modifications will correct errors in the tariff rates that are being applied to a small number of products that are originating goods of Chile under the United States—Chile Free Trade Agreement. The modifications will ensure that the intended tariff treatment is accorded to the products at issue.

ADDRESSES: Office of the United States Trade Representative, 600 17th Street, NW., Washington, DC 20508.

FOR FURTHER INFORMATION CONTACT: Leslie Yang, Director for Mercosur, (202) 395-5190.

Explanation of Technical Corrections

This notice makes technical corrections to the HTS to remedy errors included in Presidential Proclamation No. 7746 of December 30, 2003 (68 FR 75789) implementing the United States—( Chile Free Trade Agreement (FTA). The corrections pertain to the tariff rates that are being applied to a small number of originating goods of Chile under the FTA. The modifications will ensure that the intended tariff treatment is accorded to the products at issue.

Paragraph 2 of the General Notes of the United States to Annex 3.3 of the FTA states that the base rates of duty set forth in the U.S. Schedule to the FTA reflect the lower of the HTSUS Column 1 General rates of duty in effect January 1, 2002 or the rate scheduled for January 1, 2004 under existing WTO duty-elimination commitments. For a small number of originating goods of Chile, the January 1, 2002 rates were set forth in the schedule, although the rates scheduled for January 1, 2004 were lower. As a consequence of this error, the tariff rates being applied to these products are higher than the intended rates under the FTA. The Annex to this notice modifies the HTS to apply the proper tariff rates to the products at issue. The modifications shall apply with respect to originating goods of Chile, under the terms of general note 26 to the HTS, entered, or withdrawn from warehouse for consumption, on or after January 1, 2004.

Requests for application of the tariff modification and duty treatment provided for herein must be filed with the Bureau of Customs and Border Protection (CBP) and contain sufficient information to enable CBP to identify each relevant entry (including but not limited to the entry number for the shipment concerned).

Rob Portman,
Ambassador, United States Trade Representative.

Annex

Effective with respect to goods of Chile, under the terms of general note 26 to the tariff schedule, entered, or withdrawn from warehouse for consumption, on or after January 1, 2004, and on January 1 of each of the successive years, for each of the enumerated subheadings in the following table, the Rates of Duty 1 Special subcolumn in the HTS is modified (i) by inserting in such subcolumn for each subheading the rate of duty specified for such subheading in the January 1, 2004 column followed by the symbol “CL” in parentheses, and (ii) for each of the subsequent dated columns the rates of duty that are followed by the symbol “CL” in parentheses are deleted and the rates of duty for such dated column are inserted in such subheadings in lieu thereof.

HTS Subheading | Base Rate | 2004 | 2005 | 2006 | 2007 | 2008 | 2009 | 2010 | 2011 | 2012 | 2013
6503.00.90 | 13.5¢/kg + 6.3% + 1.9¢/article | 10.1¢/kg + 4.7% + 1.4¢/article | 6.7¢/kg + 3.1% + 0.9¢/article | 3.3¢/kg + 1.5% + 0.4¢/article | Free | Free | Free | Free | Free | Free | Free.
6505.90.25 | 7.5% | 5.6% | 3.7% | 1.8% | Free | Free | Free | Free | Free | Free | Free.
6505.90.30 | 25.4¢/kg + 7.7% | 19¢/kg + 5.7% | 12.7¢/kg + 3.8% | 6.3¢/kg + 1.9% | Free | Free | Free | Free | Free | Free | Free.
6505.90.60 | 20¢/kg + 7% | 15¢/kg + 5.2% | 10¢/kg + 3.5% | 5¢/kg + 1.7% | Free | Free | Free | Free | Free | Free | Free.
6505.90.90 | 20.7¢/kg + 7.5% | 15.5¢/kg + 5.6% | 10.3¢/kg + 3.7% | 5.1¢/kg + 1.8% | Free | Free | Free | Free | Free | Free | Free.
6907.10.00 | 10% | 9% | 8% | 7% | 6% | 5% | 4% | 3% | 2% | 1% | Free.
6907.90.00 | 10% | 9% | 8% | 7% | 6% | 5% | 4% | 3% | 2% | 1% | Free.
6908.10.10 | 10% | 9% | 8% | 7% | 6% | 5% | 4% | 3% | 2% | 1% | Free.
6908.10.50 | 8.5% | 7.6% | 6.8% | 5.9% | 5.1% | 4.2% | 3.4% | 2.5% | 1.7% | 0.8% | Free.
6908.90.00 | 8.5% | 7.6% | 6.8% | 5.9% | 5.1% | 4.2% | 3.4% | 2.5% | 1.7% | 0.8% | Free.
6911.10.80 | 20.8% | 18.7% | 16.6% | 14.5% | 12.4% | 10.4% | 8.3% | 6.2% | 4.1% | 2% | Free.
6912.00.20 | 28% | 25.2% | 22.4% | 19.6% | 16.8% | 14% | 11.2% | 8.4% | 5.6% | 2.8% | Free.
7013.21.10 | 15% | 13.1% | 11.2% | 9.3% | 7.5% | 5.6% | 3.7% | 1.8% | Free | Free | Free.
7013.29.10 | 28.5% | 25.6% | 22.8% | 19.9% | 17.1% | 14.2% | 11.4% | 8.5% | 5.7% | 2.8% | Free.
7013.29.20 | 22.5% | 20.2% | 18% | 15.7% | 13.5% | 11.2% | 9% | 6.7% | 4.5% | 2.2% | Free.
7013.29.50 | 7.5% | 6.5% | 5.6% | 4.6% | 3.7% | 2.8% | 1.8% | 0.9% | Free | Free | Free.
7013.31.10 | 15% | 13.1% | 11.2% | 9.3% | 7.5% | 5.6% | 3.7% | 1.8% | Free | Free | Free.
7013.32.20 | 22.5% | 20.2% | 18% | 15.7% | 13.5% | 11.2% | 9% | 6.7% | 4.5% | 2.2% | Free.
7013.32.30 | 11.3% | 9.8% | 8.4% | 7% | 5.6% | 4.2% | 2.8% | 1.4% | Free | Free | Free.
7013.39.20 | 22.5% | 20.2% | 18% | 15.7% | 13.5% | 11.2% | 9% | 6.7% | 4.5% | 2.2% | Free.
7013.39.30 | 11.3% | 9.8% | 8.4% | 7% | 5.6% | 4.2% | 2.8% | 1.4% | Free | Free | Free.
7013.99.10 | 15% | 13.1% | 11.2% | 9.3% | 7.5% | 5.6% | 3.7% | 1.8% | Free | Free | Free.
7013.99.80 | 11.3% | 9.8% | 8.4% | 7% | 5.6% | 4.2% | 2.8% | 1.4% | Free | Free | Free.
8213.00.90 | 3¢ each + 3% | 2.6¢ each + 2.6% | 2.2¢ each + 2.2% | 1.8¢ each + 1.8% | 1.5¢ each + 1.5% | 1.1¢ each + 1.1% | 0.7¢ each + 0.7% | 0.3¢ each + 0.3% | Free | Free | Free.
9612.10.90 | 7.9% | 5.9% | 3.9% | 1.9% | Free | Free | Free | Free | Free | Free | Free.
9911.69.10 | 25% | 22.5% | 20% | 17.5% | 15% | 12.5% | 10% | 7.5% | 5% | 2.5% | Free.

[FR Doc. 05-12092 Filed 6-17-05; 8:45 am]

BILLING CODE 3190-W5-P